DEPARTMENT OF COMMERCE

Bureau of Export Administration

[Docket No.: 00-BXA-07]

Action Affecting Export Privileges; Eli Cohen

In the Matter of: ELI COHEN, 23rd Halamad Hay Avenue, Haifa 32202, Israel, Respondent.

Order Relating to Respondent, Eli Cohen

The Bureau of Export Administration, United States Department of Commerce (“BXA”), having initiated an administrative proceeding against Eli Cohen (“Cohen”) pursuant to section 13(c) of the Export Administration Act of 1979, as amended (50 U.S.C. secs. 2401-2420 (1991 & Supp. V 1999)) (the “Act”),¹ and the export Administration Regulations (currently codified at 15 CFR Parts 730-774 (2001)) (the “Regulations”),² based on allegations that on or about September 8, 1996, Cohen provided a false and misleading representation or statement of material fact directly to BXA and concealed material facts from BXA in connection with an improper transfer of an infrared camera, an item subject to the Regulations, in Israel, in violation of Section 764.2(g) of the Regulations.

¹ From August 21, 1994, through November 12, 2000, the Act was in lapse. During that period, the President, through Executive Order 12924, which was extended by successive Presidential Notices, the last of which was issued on August 3, 2000 (3 CFR 2000 Comp. 397 (2001)), continued the Regulations in effect under the International Emergency Economic Powers Act (50 U.S.C. 1701-1706 (1994 & Supp. V 1999)) (“IEEPA”). On November 13, 2000, the Act was reauthorized by Public Law 106-508 and it remained in effect through August 20, 2001. Since August 21, 2001, the Act has been in lapse and the President, through Executive Order 13222 of August 17, 2001 (66 FR 44025 (August 22, 2001)), has continued the Regulations in effect under IEEPA.

² The violation charged occurred in 1996. The Regulations governing the violation at issue are found in the 1996 version of the Code of Federal Regulations (15 CFR parts 768-799 (1996), as amended (61 FR 12714, March 25, 1996)). The March 25, 1996 Federal Register publication redesignated, but did not republish, the then-existing Regulations as 15 CFR parts 768A-799A. In addition, the March 25, 1996 Federal Register publication restructured and reorganized the Regulations, designating them as an interim rule at 15 CFR parts 730-774, effective April 24, 1996. The Regulations define the violation that BXA alleges occurred in 1996, and establish the procedures that apply to this matter.

BXA and Cohen having entered into a Settlement Agreement pursuant to Section 766.18(b) of the Regulations whereby they agreed to settle this matter in accordance with the terms and conditions set forth therein, and the terms of the Settlement Agreement having been approved by me;

It is therefore ordered:

First, a civil penalty of $10,000 is assessed against Cohen which shall be paid to the U.S. Department of Commerce within 30 days from the date of entry of this Order. Payment shall be made in the manner specified in the attached instructions.

Second, that, pursuant to the Debt Collection Act of 1982, as amended (31 U.S.C. 3701-3720E (1983 & Supp. V 1999)), the civil penalty owed under this Order accrues interest as more fully described in the attached Notice, and, if payment is not made by the due date specified herein, Cohen will be assessed, in addition to interest, a penalty charge and an administrative charge, as more fully described in the attached Notice.

Third, that, for a period of five years from the date of this Order, Cohen, and when acting for or on behalf of Cohen, his representatives, agents, assigns, and employees (“denied persons”), may not, directly or indirectly, participate in any way in any transaction involving any commodity, software, or technology (hereinafter collectively referred to as “item”) exported or to be exported from the United States that is subject to the Regulations, or in any other activity subject to the Regulations, including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Fourth, that no person may, directly or indirectly, do any of the following:

A. Export or reexport to or on behalf of the denied person any item subject to the Regulations;

B. Take any action that facilitates the acquisition or attempted acquisition by the denied person of the ownership, possession, or control of any item subject to the Regulations that has been or will be exported from the United States, including financing or other support activities related to a transaction whereby the denied person acquires or attempts to acquire such ownership, possession or control;

C. Take any action to acquire from or to facilitate the acquisition or attempted acquisition from the denied person of any item subject to the Regulations that has been exported from the United States;

D. Obtain from the denied person in the United States any item subject to the Regulations with knowledge or reason to know that the item will be, or is intended to be, exported from the United states; or

E. Engage in any transaction to service any item subject to the Regulations that has been or will be exported from the United States and which is owned, possessed or controlled by the denied person, or service any item, of whatever origin, that is owned, possessed or controlled by the denied person is such service involves the use of any item subject to the Regulations that has been or will be exported from the United States. For purposes of this paragraph, servicing means installation, maintenance, repair, modification or testing.

Fifth, that after notice and opportunity for comment as provided in Section 766.23 of the Regulations, any person, firm, corporation, or business organization related to Cohen by affiliation, ownership, control, or position of responsibility in the conduct of trade or related services may also be subject to the provisions of this Order.

Sixth, that this Order does not prohibit any export, reexport, or other transaction subject to the Regulations where the only items involved that are subject to the Regulations are the foreign-produced direct product of U.S.-origin technology.

Seventh, that a copy of this Order shall be delivered to the United States Coast Guard ALJ Docketing Center, 40 Gay Street, Baltimore, Maryland 21202-4022, notifying that office that this case is withdrawn form adjudication, as provided by Section 766.18(b) of the Regulations.

Eighth, that, the charging letter, the Settlement Agreement, and this Order shall be made available to the public.

This Order, which constitutes the final agency action in this matter, is effective immediately.

Entered this 30th day of January, 2002.
Michael J. Garcia,
Assistant Secretary for Export Enforcement.

[FR Doc. 02-3855 Filed 2-15-02; 8:45 am]

BILLING CODE 3510-DT-M